DEPARTMENT OF TRANSPORTATION

Office of the Secretary

Aviation Proceedings, Agreements Filed the Week Ending August 7, 2010

The following Agreements were filed with the Department of Transportation under the Sections 412 and 414 of the Federal Aviation Act, as amended (49 U.S.C. 1382 and 1384) and procedures governing proceedings to enforce these provisions. Answers may be filed within 21 days after the filing of the application.

Docket Number: DOT-OST-2010-0198.

Date Filed: August 3, 2010.

Parties: Members of the International Air Transport Association.

Subject: Mail Vote 642—Resolutions: 024a—Establishing Passenger Fares and Related Charges; 024e—Rules for Payment of Local Currency Fares (Memo 1578). Intended effective date: 1 December 2010.

Renee V. Wright,
Program Manager, Docket Operations, Federal Register Liaison.

[FR Doc. 2010-20577 Filed 8-18-10; 8:45 am]

BILLING CODE 4910-9X-P